DEPARTMENT OF THE TREASURY

Alcohol and Tobacco Tax and Trade Bureau

27 CFR Part 9

[Docket No. TTB-2011-0004; Notice No. 117; Re: Notice Nos. 34 and 42]

RIN 1513-AB44

Proposed Fort Ross-Seaview Viticultural Area; Comment Period Reopening

AGENCY: Alcohol and Tobacco Tax and Trade Bureau, Treasury.

ACTION: Notice of proposed rulemaking; comment period reopening.

SUMMARY: The Alcohol and Tobacco Tax and Trade Bureau is reopening the comment period for Notice No. 34, which concerned the proposed establishment of the Fort Ross-Seaview viticultural area in western Sonoma County, California. Through this notice, TTB is soliciting comments on the establishment of the Fort Ross-Seaview viticultural area as proposed in Notice No. 34 and the issues raised in the public comments received in response to that notice, including a request to expand the proposed viticultural area. Given the conflicting evidence provided by the petitioner and by some commenters with respect to the distinguishing features and boundary of the proposed viticultural area, and the length of time that has passed since Notice No. 34 was published in 2005, TTB believes that the rulemaking record regarding the proposed Fort Ross-Seaview viticultural area should be reopened for public comment to ensure full public participation prior to any final regulatory action.

DATES: Written comments on the proposed Fort Ross-Seaview viticultural area are due on or before June 6, 2011.

ADDRESSES: You may send comments on Notice No. 34 to one of the following addresses:

• http://www.regulations.gov: Use the comment form for Notice No. 34 as posted within Docket No. TTB-2011-0004 on “Regulations.gov,” the Federal e-rulemaking portal, to submit comments via the Internet;

• Mail: Director, Regulations and Rulings Division, Alcohol and Tobacco Tax and Trade Bureau, P.O. Box 14412, Washington, DC 20044-4412.

• Hand Delivery/Courier in Lieu of Mail: Alcohol and Tobacco Tax and Trade Bureau, 1310 G Street, NW., Suite 200-E, Washington, DC 20005.

See the Public Participation section of this notice for specific instructions and requirements for submitting comments, and for information on how to request a public hearing.

You may view copies of the petitions, supporting materials, published notices, and all public comments associated with this proposal within Docket No. TTB-2011-0004 at http://www.regulations.gov. You also may view copies of the petitions, supporting materials, published notices, and all public comments associated with this proposal by appointment at the TTB Information Resource Center, 1310 G Street, NW., Washington, DC 20220. Please call 202-453-2270 to make an appointment.

FOR FURTHER INFORMATION CONTACT: Elisabeth C. Kann, Regulations and Rulings Division, Alcohol and Tobacco Tax and Trade Bureau, 1310 G Street, NW., Suite 200E, Washington, DC 20220; phone 202-453-2002.

SUPPLEMENTARY INFORMATION:

Fort Ross-Seaview Rulemaking History

Original 2003 Petition and Notice No. 34

In 2003, Patrick Shabram, on his own behalf and on behalf of David Hirsch of Hirsch Vineyards, submitted a petition to establish the 27,500-acre “Fort Ross-Seaview” American viticultural area in western Sonoma County, California (hereinafter the “2003 petition”). The proposed Fort Ross-Seaview viticultural area is completely within the existing North Coast (27 CFR 9.30) and Sonoma Coast (27 CFR 9.116) viticultural areas. At the time of the 2003 petition, the Fort Ross-Seaview viticultural area contained 18 commercial vineyards, which covered approximately 506 acres.

In response to the 2003 petition, TTB published Notice No. 34, a notice of proposed rulemaking regarding the establishment of the Fort Ross-Seaview viticultural area, in the Federal Register of March 8, 2005 (70 FR 11174). In that notice, TTB requested comments by May 9, 2005, from all interested persons. In response to a request from a local wine industry member, TTB subsequently extended the comment period for Notice No. 34 until June 8, 2005 (see Notice No. 42, 70 FR 25000, May 12, 2005).

Comments Received in Response to Notice No. 34; Proposed Expansion Request

In response to Notice No. 34, TTB received seven comments concerning the proposed establishment of the Fort Ross-Seaview viticultural area. Two local wine industry members supported the petition without qualification; a third industry member supported the viticultural area's establishment while expressing concern about the potential effect of the proposed viticultural area on his “Fort Ross” brand names if “Fort Ross” alone were determined to be a term of viticultural significance.

Four commenters, all owners or operators of Sonoma County wineries and vineyards, opposed the establishment of the Fort Ross-Seaview viticultural area as outlined in Notice No. 34. Stating that their vineyards, all located to the north of the proposed Fort Ross-Seaview viticultural area, have the same viticultural characteristics as those found within the proposed area, these four commenters requested that TTB delay a final decision on the establishment of the Fort Ross-Seaview viticultural area so that they could gather additional evidence to support their contention that the proposed viticultural area should be expanded to include their properties.

In response, TTB advised the opposing commenters that evidence in support of a northern expansion of the proposed Fort Ross-Seaview viticultural area must be submitted to TTB in order for the agency to consider their request.

Subsequently, three of the opposing commenters submitted documentation to TTB in support of a 15,726-acre northern expansion of the Fort Ross-Seaview viticultural area proposed in Notice No. 34.

After submission of the commenters' documentation in support of a northern addition, TTB shared the documentation with the petitioner for the Fort Ross-Seaview viticultural area. In response, Patrick Shabram, the author of the 2003 Fort Ross-Seaview viticultural area petition and a professional geographer specializing in Sonoma County viticulture, submitted additional documentation to support the originally petitioned proposed Fort Ross-Seaview viticultural area name and boundary line.

Revision of Viticultural Area Regulations

On January 20, 2011, TTB issued a final rule revising certain sections of its regulations related to petitions for and the establishment of viticultural areas as found in 27 CFR parts 4 and 9. These revisions are contained in T.D. TTB-90 (76 FR 3489). As such, references to parts 4 and 9 regulatory sections within Notice No. 34 may no longer be valid. For example, the regulation outlining the requirements that a proposed viticultural area petition must meet, formerly located in § 9.3, is now contained in § 9.12. To view T.D. TTB-90, go to http://edocket.access.gpo.gov/2011/pdf/2011-1138.pdf; to view 27 CFR parts 4 and 9 in their current form, go to the e-CFR at http://www.gpoaccess.gov/ecfr/.

Determination To Re-Open Public Comment Period

Given the conflicting evidence provided by the original petitioner and by some commenters with respect to the distinguishing features and boundary of the proposed viticultural area, and the length of time that has passed since TTB published Notice No. 34 and solicited public comments on the proposed establishment of the Fort Ross-Seaview viticultural area, TTB has determined that it would be appropriate to re-open the comment period before taking any final action concerning Notice No. 34. Therefore, TTB reopens the comment period for Notice No. 34 for an additional 45 days, and comments are thus due on or before June 6, 2011.

Public Participation

Comments Invited

TTB invites comments from interested members of the public on whether or not the agency should establish the proposed “Fort Ross-Seaview” viticultural area in Sonoma County, California. TTB is especially interested in receiving comments on the sufficiency and accuracy of the proposed viticultural area's name, “Fort Ross-Seaview,” on the name's applicability to the proposed northern expansion area, and on any alternative names for the proposed viticultural area and the northern expansion area. TTB also is especially interested in public comments on the appropriateness of the proposed viticultural area's boundaries—is the proposed viticultural area limited to the boundaries outlined in Notice No. 34 or does the area extend further to the north as stated by opposing commenters? Please provide specific information in support of your comments.

Copies of the original 2003 Fort Ross-Seaview petition, Notice No. 34, the original comments received in response to that notice, the documentation submitted in support of a 15,726-acre northern expansion of the proposed viticultural area, Mr. Shabram's response to the northern expansion documentation, and this notice are posted for public viewing within Docket No. TTB-2011-0004 on Regulations.gov, the Federal e-rulemaking portal, at http://www.regulations.gov. A link to the Regulations.gov search page is available under Notice No. 117 on the TTB Web site at http://www.ttb.gov/wine/wine-rulemaking.shtml.

Submitting Comments

When submitting your comment, it must reference Notice No. 34 and include your name and mailing address. You may submit comments on Notice No. 34 by using one of the following three methods:

• Federal e-Rulemaking Portal: You may send comments via the online comment form linked to Notice No. 34 as posting within Docket No. TTB-2011-0004 on “Regulations.gov,” the Federal e-rulemaking portal, at http://www.regulations.gov. Supplemental files may be attached to comments submitted via Regulations.gov. For information on how to use Regulations.gov, click on the site's Help or FAQ tabs.

• U.S. Mail: You may send comments via postal mail to the Director, Regulations and Rulings Division, Alcohol and Tobacco Tax and Trade Bureau, P.O. Box 14412, Washington, DC 20044-4412.

• Hand Delivery/Courier: You may hand-carry your comments or have them hand-carried to the Alcohol and Tobacco Tax and Trade Bureau, 1310 G Street, NW., Suite 200-E, Washington, DC 20005.

Please submit your comments by the closing date shown above in this notice. Your comments must be made in English, be legible, and be written in language acceptable for public disclosure. TTB does not acknowledge receipt of comments, and the Bureau considers all comments as originals.

If you are commenting on behalf of an association, business, or other entity, your comment must include the entity's name as well as your name and position title. If you comment via Regulations.gov, please include the entity's name in the “Organization” blank of the comment form. If you comment via postal mail, please submit your entity's comment on letterhead.

You may also write to the Administrator before the comment closing date to ask for a public hearing. The Administrator reserves the right to determine whether to hold a public hearing.

Confidentiality

All submitted comments and attachments are part of the public record and subject to public disclosure. Do not enclose any material in your comments that you consider to be confidential or that is inappropriate for public disclosure.

Public Disclosure

You may view copies of the petitions, supporting materials, published notices, and all public comments associated with this proposal within Docket No. TTB-2011-0004 at http://www.regulations.gov. You also may view copies of the petitions, supporting materials, published notices, and all public comments associated with this proposal by appointment at the TTB Information Resource Center, 1310 G Street, NW., Washington, DC 20220. Please call 202-453-2270 to make an appointment. You may also obtain copies at 20 cents per 8.5 x 11-inch page. Contact the TTB information specialist at the above address or by telephone at 202-453-2270 to schedule an appointment or to request copies of comments or other materials.

All posted comments will display the commenter's name, organization (if any), city, and State, and, in the case of mailed comments, all address information, including e-mail addresses. TTB may omit voluminous attachments or material that the Bureau considers unsuitable for posting.

Drafting Information

Michael Hoover of the Regulations and Rulings Division drafted this notice.

Signed: April 13, 2011.
John J. Manfreda,
Administrator.

[FR Doc. 2011-9635 Filed 4-20-11; 8:45 am]

BILLING CODE 4810-31-P